DEPARTMENT OF TRANSPORTATION

Federal Aviation Administration

14 CFR Part 95

[Docket No. 31606; Amdt. No. 585]

IFR Altitudes; Miscellaneous Amendments

AGENCY: Federal Aviation Administration (FAA), DOT.

ACTION: Final rule

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, June 12, 2025.

FOR FURTHER INFORMATION CONTACT: Romana B. Wolf, Manager, Flight Procedures and Airspace Group, Flight Technologies and Procedures Division, Office of Safety Standards, Flight Standards Service, Aviation Safety, Federal Aviation Administration. Mailing Address: FAA Mike Monroney Aeronautical Center, Flight Procedures and Airspace Group, 6500 South MacArthur Blvd., STB Annex, Bldg. 26, Room 217, Oklahoma City, OK 73099. Telephone (405) 954-1139.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on May 9, 2025.
Romana B. Wolf,
Manager, Flight Procedures and Airspace Group, Flight Technologies and Procedures Division, Office of Safety Standards, Flight Standards Service, Aviation Safety, Federal Aviation Administration.

Adoption of the Amendment

Accordingly, pursuant to the authority delegated to me by the Administrator, part 95 of the Federal Aviation Regulations (14 CFR part 95) is amended as follows effective at 0901 UTC, 12 Jun 2025.

PART 95—IFR Altitudes

1. The authority citation for part 95 continues to read as follows:

Authority: 49 U.S.C. 106(g), 40103, 40113 and 14 CFR 11.49(b)(2)

2. Part 95 is amended to read as follows:

Revisions to IFR Altitudes & Changeover Point
[Amendment 585 effective date June 12, 2025]
From | To | MEA | MAA
§ 95.4000 High Altitude RNAV Routes
§ 95.3315 RNAV Route T315 Is Amended by Adding
BRICKYARD, IN VORTAC | DECEE, IN FIX | 2600 | 17500
DECEE, IN FIX | JADRO, IN FIX | 2700 | 17500
JADRO, IN FIX | JIMUR, KY FIX | 2600 | 17500
§ 95.4033 RNAV Route Q33 Is Amended by Adding
HUMBLE, TX VORTAC | TAYUR, TX WP | * 18000 | 45000
* 18000—GNSS MEA
* DME/DME/IRU MEA
TAYUR, TX WP | SWEUP, LA WP | * 18000 | 45000
* 18000—GNSS MEA
* DME/DME/IRU MEA
SWEUP, LA WP | LITTR, AR WP | * 18000 | 45000
* 18000—GNSS MEA
* DME/DME/IRU MEA
Is Amended To Delete
HUMBLE, TX VORTAC | DAISETTA, TX VORTAC | * 18000 | 45000
* 18000—GNSS MEA
* DME/DME/IRU MEA
DAISETTA, TX VORTAC | SAWMILL, LA VOR/DME | * 18000 | 45000
* 18000—GNSS MEA
* DME/DME/IRU MEA
SAWMILL, LA VOR/DME | LITTR, AR WP | * 18000 | 45000
* 18000—GNSS MEA
* DME/DME/IRU MEA
§ 95.4097 RNAV Route Q97 Is Amended by Adding
ZJAAY, MD WP | PAJET, DE WP | * 18000 | 45000
* 18000—GNSS MEA
* DME/DME/IRU MEA
PAJET, DE WP | CAANO, DE WP | * 18000 | 45000
* 18000—GNSS MEA
* DME/DME/IRU MEA
CAANO, DE WP | TBONN, OA WP | * 18000 | 45000
* 18000—GNSS MEA
* DME/DME/IRU MEA
TBONN, OA WP | ZIZZI, NJ WP | * 18000 | 45000
* 18000—GNSS MEA
* DME/DME/IRU MEA
ZIZZI, NJ WP | YAZUU, NJ WP | * 18000 | 45000
* 18000—GNSS MEA
* DME/DME/IRU MEA
YAZUU, NJ WP | HEADI, NJ WP | * 18000 | 45000
* 18000—GNSS MEA
* DME/DME/IRU MEA
Is Amended To Delete
ZJAAY, MD WP | BYSEL, MD WP | * 18000 | 45000
* 18000—GNSS MEA
* DME/DME/IRU MEA
BYSEL, MD WP | BRIGS, NJ FIX | * 18000 | 45000
* 18000—GNSS MEA
* DME/DME/IRU MEA
BRIGS, NJ FIX | HEADI, NJ WP | * 18000 | 45000
* 18000—GNSS MEA
* DME/DME/IRU MEA
Is Amended To Read in Part
TOVAR, FL WP | MALET, FL FIX | * 18000 | 45000
* 18000—GNSS MEA
* DME/DME/IRU MEA
CAKET, SC WP | ELLDE, NC WP | * 18000 | 45000
* 18000—GNSS MEA
* DME/DME/IRU MEA
ELLDE, NC WP | PAACK, NC WP | * 18000 | 45000
* 18000—GNSS MEA
* DME/DME/IRU MEA
PAACK, NC WP | SAWED, VA WP | * 18000 | 45000
* 18000—GNSS MEA
* DME/DME/IRU MEA
HEADI, NJ WP | CALVERTON, NY VOR/DME | * 18000 | 45000
* 18000—GNSS MEA
* DME/DME/IRU MEA
BLENO, NH WP | FRIAR, ME FIX | * 18000 | 45000
* 18000—GNSS MEA
* DME/DME/IRU MEA
§ 95.4133 RNAV Route Q133 Is Amended by Adding
JAMIE, VA FIX | CONFR, MD WP | * 18000 | 45000
* 18000—GNSS MEA
* DME/DME/IRU MEA
LEEAH, NJ FIX | GREIN, NJ WP | * 18000 | 45000
* 18000—GNSS MEA
* DME/DME/IRU MEA
GREIN, NJ WP | MYRCA, NJ WP | * 18000 | 45000
* 18000—GNSS MEA
* DME/DME/IRU MEA
KENNEDY, NY VOR/DME | BIZEX, NY WP | * 18000 | 45000
* 18000—GNSS MEA
* DME/DME/IRU MEA
BIZEX, NY WP | CAMBRIDGE, NY VOR/DME | * 18000 | 45000
* 18000—GNSS MEA
* DME/DME/IRU MEA
CAMBRIDGE, NY VOR/DME | JASDU, NY WP | * 18000 | 45000
* 18000—GNSS MEA
* DME/DME/IRU MEA
JASDU, NY WP | PBERG, NY WP | * 18000 | 45000
* 18000—GNSS MEA
* DME/DME/IRU MEA
Is Amended To Delete
CHIEZ, NC WP | BENCH, NC WP | * 18000 | 45000
* 18000—GNSS MEA
* DME/DME/IRU MEA
BENCH, NC WP | KOOKI, NC WP | * 18000 | 45000
* 18000—GNSS MEA
* DME/DME/IRU MEA
KOOKI, NC WP | PYSTN, VA WP | * 18000 | 45000
* 18000—GNSS MEA
* DME/DME/IRU MEA
PYSTN, VA WP | KALDA, VA WP | * 18000 | 45000
* 18000—GNSS MEA
* DME/DME/IRU MEA
KALDA, VA WP | CONFR, MD WP | * 18000 | 45000
* 18000—GNSS MEA
* DME/DME/IRU MEA
LEEAH, NJ FIX | MYRCA, NJ WP | * 18000 | 45000
* 18000—GNSS MEA
* DME/DME/IRU MEA
KENNEDY, NY VOR/DME | LLUND, NY WP | * 18000 | 45000
* 18000—GNSS MEA
* DME/DME/IRU MEA
LLUND, NY WP | FARLE, NY WP | * 18000 | 45000
* 18000—GNSS MEA
* DME/DME/IRU MEA
FARLE, NY WP | GANDE, NY WP | * 18000 | 45000
* 18000—GNSS MEA
* DME/DME/IRU MEA
GANDE, NY WP | PONCT, NY WP | * 18000 | 45000
* 18000—GNSS MEA
* DME/DME/IRU MEA
§ 95.4161 RNAV Route Q161 Is Added To Read
CHIEZ, NC WP | KOOKI, NC WP | * 18000 | 45000
* 18000—GNSS MEA
* DME/DME/IRU MEA
KOOKI, NC WP | PYSTN, VA WP | * 18000 | 45000
* 18000—GNSS MEA
* DME/DME/IRU MEA
PYSTN, VA WP | KALDA, VA WP | * 18000 | 45000
* 18000—GNSS MEA
* DME/DME/IRU MEA
§ 95.4409 RNAV Route Q409 Is Amended To Read in Part
KONEY, SC WP | OKNEE, SC WP | * 18000 | 45000
* 18000—GNSS MEA
* DME/DME/IRU MEA
MRPIT, NC WP | TRPOD, MD WP | * 18000 | 45000
* 18000—GNSS MEA
* DME/DME/IRU MEA
§ 95.4437 RNAV Route Q437 Is Amended by Adding
CRPLR, VA WP | TRPOD, MD WP | * 18000 | 45000
* 18000—GNSS MEA
* DME/DME/IRU MEA
TRPOD, MD WP | OYVAY, DE WP | * 18000 | 45000
* 18000—GNSS MEA
* DME/DME/IRU MEA
OYVAY, DE WP | VILLS, NJ WP | * 18000 | 45000
* 18000—GNSS MEA
* DME/DME/IRU MEA
VILLS, NJ WP | SIZZR, NJ WP | * 18000 | 45000
* 18000—GNSS MEA
* DME/DME/IRU MEA
SIZZR, NJ WP | METRO, NJ FIX | * 18000 | 45000
* 18000—GNSS MEA
* DME/DME/IRU MEA
METRO, NJ FIX | CLAUS, NJ WP | * 18000 | 45000
* 18000—GNSS MEA
* DME/DME/IRU MEA
CLAUS, NJ WP | GANDE, NY WP | * 18000 | 45000
* 18000—GNSS MEA
* DME/DME/IRU MEA
GANDE, NY WP | PONCT, NY WP | * 18000 | 45000
* 18000—GNSS MEA
* DME/DME/IRU MEA
Is Amended To Delete
VILLS, NJ WP | DITCH, NJ FIX | * 18000 | 45000
* 18000—GNSS MEA
* DME/DME/IRU MEA
DITCH, NJ FIX | LUIGI, NJ WP | * 18000 | 45000
* 18000—GNSS MEA
* DME/DME/IRU MEA
LUIGI, NJ WP | HNNAH, NJ WP | * 18000 | 45000
* 18000—GNSS MEA
* DME/DME/IRU MEA
HNNAH, NJ WP | LLUND, NY WP | * 18000 | 45000
* 18000—GNSS MEA
* DME/DME/IRU MEA
§ 95.4439 RNAV Route Q439 Is Amended by Adding
KALDA, VA WP | ZJAAY, MD WP | * 18000 | 45000
* 18000—GNSS MEA
* DME/DME/IRU MEA
ZJAAY, MD WP | BYSEL, MD WP | * 18000 | 45000
* 18000—GNSS MEA
* DME/DME/IRU MEA
BYSEL, MD WP | RADDS, DE FIX | * 18000 | 45000
* 18000—GNSS MEA
* DME/DME/IRU MEA
RADDS, DE FIX | SHHAY, DE WP | * 18000 | 45000
* 18000—GNSS MEA
* DME/DME/IRU MEA
SHHAY, DE WP | BRIGS, NJ FIX | * 18000 | 45000
* 18000—GNSS MEA
* DME/DME/IRU MEA
Is Amended To Delete
HOWYU, DE WP | RADDS, DE FIX | * 18000 | 45000
* 18000—GNSS MEA
* DME/DME/IRU MEA
RADDS, DE FIX | WNSTN, NJ WP | * 18000 | 45000
* 18000—GNSS MEA
* DME/DME/IRU MEA
WNSTN, NJ WP | AVALO, NJ FIX | * 18000 | 45000
* 18000—GNSS MEA
* DME/DME/IRU MEA
AVALO, NJ FIX | BRIGS, NJ FIX | * 18000 | 45000
* 18000—GNSS MEA
* DME/DME/IRU MEA
Is Amended To Read in Part
BRIGS, NJ FIX | MANTA, NJ FIX | * 18000 | 45000
* 18000—GNSS MEA
* DME/DME/IRU MEA
MANTA, NJ FIX | SARDI, NY FIX | * 18000 | 45000
* 18000—GNSS MEA
* DME/DME/IRU MEA
BLENO, NH WP | FRIAR, ME FIX | * 18000 | 45000
* 18000—GNSS MEA
* DME/DME/IRU MEA
§ 95.4445 RNAV Route Q445 Is Amended by Adding
KALDA, VA WP | ZJAAY, MD WP | * 18000 | 45000
* 18000—GNSS MEA
* DME/DME/IRU MEA
ZJAAY, MD WP | PAJET, DE WP | * 18000 | 45000
* 18000—GNSS MEA
* DME/DME/IRU MEA
PAJET, DE WP | CAANO, DE WP | * 18000 | 45000
* 18000—GNSS MEA
* DME/DME/IRU MEA
CAANO, DE WP | TBONN, OA WP | * 18000 | 45000
* 18000—GNSS MEA
* DME/DME/IRU MEA
TBONN, OA WP | ZIZZI, NJ WP | * 18000 | 45000
* 18000—GNSS MEA
* DME/DME/IRU MEA
ZIZZI, NJ WP | YAZUU, NJ WP | * 18000 | 45000
* 18000—GNSS MEA
* DME/DME/IRU MEA
YAZUU, NJ WP | SHAUP, OA WP | * 18000 | 45000
* 18000—GNSS MEA
* DME/DME/IRU MEA
§ 95.4481 RNAV Route Q481 Is Amended by Adding
JAMIE, VA FIX | CONFR, MD WP | * 18000 | 45000
* 18000—GNSS MEA
* DME/DME/IRU MEA
MGERK, DE WP | SOSBY, NJ WP | * 18000 | 45000
* 18000—GNSS MEA
* DME/DME/IRU MEA
SOSBY, NJ WP | ECOIL, NJ WP | * 18000 | 45000
* 18000—GNSS MEA
* DME/DME/IRU MEA
ECOIL, NJ WP | ZIGGI, NJ FIX | * 18000 | 45000
* 18000—GNSS MEA
* DME/DME/IRU MEA
Is Amended To Delete
MGERK, DE WP | LEEAH, NJ FIX | * 18000 | 45000
* 18000—GNSS MEA
* DME/DME/IRU MEA
LEEAH, NJ FIX | ZIGGI, NJ FIX | * 18000 | 45000
* 18000—GNSS MEA
* DME/DME/IRU MEA

From | To | MEA
§ 95.6001 Victor Routes—U.S.
§ 95.6005 VOR Federal Airway V5 Is Amended To Delete
NEW HOPE, KY VOR/DME | * LOUISVILLE, KY VORTAC | 2700
* 10000—MCA LOUISVILLE, KY VORTAC, NE BND |  | MAA—17500
LOUISVILLE, KY VORTAC | * NERVE, KY FIX | ** 10000
* 10000—MCA NERVE, KY FIX, SW BND |  | MAA—17500
** 2700—GNSS MEA
** LOUISVILLE R-036 UNUSABLE BELOW 10000
NERVE, KY FIX | CINCINNATI, KY VORTAC | 2700 MAA—17500
CINCINNATI, KY VORTAC | PRUDE, OH FIX | 3000 MAA—17500
PRUDE, OH FIX | SHIRT, OH FIX | * 4000
* 2500—MOCA |  | MAA—17500
SHIRT, OH FIX | * GLOOM, OH FIX | 3000
* 4000—MRA |  | MAA—17500
GLOOM, OH FIX | APPLETON, OH VORTAC | 3000 MAA—17500
§ 95.6008 VOR Federal Airway V8 Is Amended To Delete
CHICAGO HEIGHTS, IL VORTAC | GOSHEN, IN VORTAC | 2600 MAA—17500
GOSHEN, IN VORTAC | * TWERP, OH FIX | ** 4500
* 5000—MRA
** 2500—MOCA |  | MAA—17500
TWERP, OH FIX | FLAG CITY, OH VORTAC | 2700 MAA—17500
Is Amended To Read in Part
GAREY, CA FIX | * LUCER, CA FIX | 10700
* 9300—MCA LUCER, CA FIX, SW BND |  | MAA—17500
§ 95.6011 VOR Federal Airway V11 Is Amended To Read in Part
FORT WAYNE, IN VORTAC | EDGEE, OH FIX | 3000 MAA—17500
§ 95.6012 VOR Federal Airway V12 Is Amended To Read in Part
JOHNSTOWN, PA VOR/DME | MIROY, PA FIX | 5400 MAA—17500
MIROY, PA FIX | COFAX, PA FIX | UNUSABLE
COFAX, PA FIX | HARRISBURG, PA VORTAC | 5400 MAA—17500
§ 95.6016 VOR Federal Airway V16 Is Amended To Delete
PULASKI, VA VORTAC | ROANOKE, VA VOR/DME | 5300 MAA—17500
ROANOKE, VA VOR/DME | GOOZE, VA FIX | 5000 MAA—17500
GOOZE, VA FIX | LYNCHBURG, VA VOR/DME
| W BND | * 5000
| E BND | * 3000
* 2900—MOCA |  | MAA—17500
§ 95.6019 VOR Federal Airway V19 Is Amended To Delete
CINCINNATI, KY VORTAC | APPLETON, OH VORTAC | * 4000
* 2800—MOCA |  | MAA—17500
§ 95.6021 VOR Federal Airway V21 Is Amended To Read in Part
GAREY, CA FIX | * LUCER, CA FIX | 10700
* 9300—MCA LUCER, CA FIX, SW BND |  | MAA—17500
§ 95.6037 VOR Federal Airway V37 Is Amended To Read in Part
ELKINS, WV VORTAC | CLARKSBURG, WV VOR/DME | * 5000
* 4400—MOCA |  | MAA—17500
* CLARKSBURG R-163 UNUSABLE USE ELKINS R-346
§ 95.6038 VOR Federal Airway V38 Is Amended To Read in Part
PEOTONE, IL VORTAC | * LUCIT, IN FIX | 2500
* 7900—MCA LUCIT, IN FIX, E BND |  | MAA—17500
LUCIT, IN FIX | * CLEFT, IN FIX | ** 12500
* 12500—MRA
** 2400—MOCA |  | MAA—17500
** 4000—GNSS MEA
CLEFT, IN FIX | * FORT WAYNE, IN VORTAC | ** 12500
* 12500—MCA FORT WAYNE, IN VORTAC, W BND
** 2300—MOCA |  | MAA—17500
** 2800—GNSS MEA
BENZO, WV FIX | * ELKINS, WV VORTAC | 4000
* 4800—MCA ELKINS, WV VORTAC, SE BND |  | MAA—17500
ELKINS, WV VORTAC | * DEKAY, WV FIX | ** 9000
* 9500—MRA
** 7100—MOCA |  | MAA—17500
§ 95.6047 VOR Federal Airway V47 Is Amended To Delete
CUNNINGHAM, KY VOR/DME | POCKET CITY, IN VORTAC | 2600 MAA—17500
CINCINNATI, KY VORTAC | ROSEWOOD, OH VORTAC | 3100 MAA—17500
§ 95.6055 VOR Federal Airway V55 Is Amended To Delete
FORT WAYNE, IN VORTAC | GOSHEN, IN VORTAC | 2700 MAA—17500
GOSHEN, IN VORTAC | GIPPER, MI VORTAC | 3000 MAA—17500
§ 95.6092 VOR Federal Airway V92 Is Amended To Delete
CHICAGO HEIGHTS, IL VORTAC | GOSHEN, IN VORTAC | 2600 MAA—17500
§ 95.6097 VOR Federal Airway V97 Is Amended To Delete
LEXINGTON, KY VOR/DME | DARKS, KY FIX | 3000 MAA—17500
DARKS, KY FIX | CINCINNATI, KY VORTAC | 2700 MAA—17500
CINCINNATI, KY VORTAC | SHELBYVILLE, IN VOR/DME | 2800 MAA—17500
SHELBYVILLE, IN VOR/DME | BOILER, IN VORTAC | * 5000
* 2900—MOCA |  | MAA—17500
BOILER, IN VORTAC | CHICAGO HEIGHTS, IL VORTAC | 2800 MAA—17500
CHICAGO HEIGHTS, IL VORTAC | NILES, IL FIX | 3500 MAA—17500
§ 95.6103 VOR Federal Airway V103 Is Amended by Adding
GREENSBORO, NC VORTAC | MAYOS, NC FIX | 3500 MAA—17500
Is Amended To Delete
GREENSBORO, NC VORTAC | HENBY, VA FIX | 3500 MAA—17500
HENBY, VA FIX | TABER, VA FIX | 5100 MAA—17500
TABER, VA FIX | ROANOKE, VA VOR/DME | 5600 MAA—17500
ROANOKE, VA VOR/DME | NATTS, WV FIX | 6000 MAA—17500
NATTS, WV FIX | VELLI, WV FIX | 7000 MAA—17500
VELLI, WV FIX | ELKINS, WV VORTAC | * 7000
* 6400—MOCA |  | MAA—17500
Is Amended To Read in Part
ELKINS, WV VORTAC | CLARKSBURG, WV VOR/DME | * 5000
* 4400—MOCA |  | MAA—17500
§ 95.6114 VOR Federal Airway V114 Is Amended To Read in Part
EXITE, LA FIX | * COVEX, LA FIX | ** 3500
* 4600—MCA COVEX, LA FIX, SE BND
** 1700—MOCA |  | MAA—17500
§ 95.6126 VOR Federal Airway V126 Is Amended To Delete
GOSHEN, IN VORTAC | ILTON, IN WP | * 5000
* 2400—MOCA |  | MAA—17500
§ 95.6128 VOR Federal Airway V128 Is Amended To Delete
BRICKYARD, IN VORTAC | DECEE, IN FIX | 2600 MAA—17500
DECEE, IN FIX | CINCINNATI, KY VORTAC | 2800 MAA—17500
§ 95.6136 VOR Federal Airway V136 Is Amended To Read in Part
PULASKI, VA VORTAC | PIGGS, VA FIX | 5600 MAA—17500
§ 95.6140 VOR Federal Airway V140 Is Amended To Read in Part
CASTE, VA FIX | MONTEBELLO, VA VOR/DME
| E BND | 6300
| W BND | 7000 MAA—17500
§ 95.6143 VOR Federal Airway V143 Is Amended To Read in Part
LYNCHBURG, VA VOR/DME | ELLON, VA FIX
| N BND | 6400
| S BND | 3300 MAA—17500
ELLON, VA FIX | MONTEBELLO, VA VOR/DME | 6400 MAA—17500
§ 95.6172 VOR Federal Airway V172 Is Amended To Read in Part
WUNOT, IA FIX | * LINDE, IA FIX | ** 5500
* 5500—MRA
** 3900—MOCA |  | MAA—17500
§ 95.6200 VOR Federal Airway V200 Is Amended To Read in Part
YUBBA, CA FIX | * RANGO, CA FIX | 5400
* 8500—MCA RANGO, CA FIX, NE BND |  | MAA—17500
§ 95.6221 VOR Federal Airway V221 Is Amended To Delete
FORT WAYNE, IN VORTAC | * GAREN, IN FIX | 3000
* 4500—MRA |  | MAA—17500
GAREN, IN FIX | ILTON, IN FIX | * 3000
* 2400—MOCA |  | MAA—17500
§ 95.6225 VOR Federal Airway V225 Is Amended To Read in Part
KEY WEST, FL VORTAC | RIGOR, FL FIX
| N BND | * 4000
| S BND | * 1700
* 1400—MOCA |  | MAA—17500
§ 95.6269 VOR Federal Airway V269 Is Amended To Read in Part
FONNA, OR FIX | WILDHORSE, OR VOR/DME | * 12000
* 8800—MOCA |  | MAA—17500
§ 95.6275 VOR Federal Airway V275 Is Amended To Delete
CINCINNATI, KY VORTAC | DAYTON, OH VOR/DME | 3000 MAA—17500
§ 95.6277 VOR Federal Airway V277 Is Amended To Read in Part
FORT WAYNE, IN VORTAC | BAGEL, IN FIX
| SE BND | 2800
| NW BND | 4000 MAA—17500
§ 95.6283 VOR Federal Airway V283 Is Amended To Read in Part
HOMELAND, CA VOR | * LUCER, CA FIX | 10700
* 9300—MCA LUCER, CA FIX, SW BND |  | MAA—17500
§ 95.6375 VOR Federal Airway V375 Is Amended To Delete
ROANOKE, VA VOR/DME | PROSE, VA FIX
| E BND | 6500
| W BND | 5400 MAA—17500
PROSE, VA FIX | ROMAN, VA FIX | 6500 MAA—17500
ROMAN, VA FIX | GORDONSVILLE, VA VORTAC | 4000 MAA—17500
§ 95.6470 VOR Federal Airway V470 Is Amended To Read in Part
PULASKI, VA VORTAC | TABER, VA FIX | 5600 MAA—17500
TABER, VA FIX | LYNCHBURG, VA VOR/DME | 5600 MAA—17500
§ 95.6473 VOR Federal Airway V473 Is Amended To Delete
ROANOKE, VA VOR/DME | HOBOS, VA FIX | * 6000
* 5100—MOCA |  | MAA—17500
HOBOS, VA FIX | MONTEBELLO, VA VOR/DME | 6000 MAA—17500
§ 95.6484 VOR Federal Airway V484 Is Amended To Read in Part
KINZE, ID FIX | * TWIN FALLS, ID VORTAC | 7300
* 10100—MCA TWIN FALLS, ID VORTAC, SE BND |  | MAA—17500
TWIN FALLS, ID VORTAC | WODEN, ID FIX
| SE BND | 12000
| NW BND | 8900 MAA—17500
WODEN, ID FIX | DRYAD, ID FIX
| NW BND | * 12000
| SE BND | * 13200
* 9700—MOCA |  | MAA—17500
* 10000—GNSS MEA
DRYAD, ID FIX | SWITZ, UT FIX | * 16000
* 12200—MOCA |  | MAA—17500
* 12200—GNSS MEA
SWITZ, UT FIX | CAUSE, UT FIX
| SE BND | * 11500
| NW BND | * 15100
* 8400—MOCA |  | MAA—17500
* 9200—GNSS MEA
CAUSE, UT FIX | * WASATCH, UT VORTAC
| SE BND | 8800
| NW BND | 12500
* 11000—MCA WASATCH, UT VORTAC, E BND |  | MAA—17500
WASATCH, UT VORTAC | * PARLE, UT FIX | 11500
* 12100—MCA PARLE, UT FIX, E BND |  | MAA—17500
§ 95.6517 VOR Federal Airway V517 Is Amended To Delete
FALMOUTH, KY VOR/DME | CINCINNATI, KY VORTAC | 2700 MAA—17500
§ 95.6526 VOR Federal Airway V526 Is Amended To Read in Part
MUSKY, MI FIX | MAPER, MI FIX | * 3500
* 1800—MOCA |  | MAA—17500
* 2600—GNSS MEA
§ 95.6531 VOR Federal Airway V531 Is Amended To Read in Part
PALM BEACH, FL VORTAC | SHEDS, FL FIX
| SE BND | 3000
| NW BND | 5000 MAA—17500
§ 95.6566 VOR Federal Airway V566 Is Amended To Read in Part
KNELT, LA FIX | * COVEX, LA FIX | ** 3500
* 4600—MCA COVEX, LA FIX, SE BND
** 1800—MOCA |  | MAA—17500
§ 95.6587 VOR Federal Airway V587 Is Amended To Read in Part
HOMELAND, CA VOR | * LUCER, CA FIX | 10700
* 9300—MCA LUCER, CA FIX, SW BND |  | MAA—17500
§ 95.6447 Alaska VOR Federal Airway V447 Is Amended To Delete
FAIRBANKS, AK VORTAC | DOMEY, AK FIX | * 5000
* 4400—MOCA |  | MAA—17500
DOMEY, AK FIX | TATTA, AK FIX
| NW BND | * 11000
| SE BND | * 7000
* 5400—MOCA |  | MAA—17500
TATTA, AK FIX | CHANDALAR LAKE, AK NDB | * 11000
* 8000—MOCA |  | MAA—17500
* MEA IS ESTABLISHED WITH A GAP IN NAVIGATION SIGNAL COVERAGE.
§ 95.6510 Alaska VOR Federal Airway V510 Is Amended To Delete
EMMONAK, AK VOR/DME | ANVIK, AK NDB | 3900 MAA—17500
ANVIK, AK NDB | SABOC, AK FIX
| E BND | * 10000
| W BND | * 9000
* 6200—MOCA |  | MAA—17500
* 7000—GNSS MEA
SABOC, AK FIX | MC GRATH, AK VORTAC | * 10000
* 6200—MOCA |  | MAA—17500
* 7000—GNSS MEA
§ 95.6412 Hawaii VOR Federal Airway V12 Is Amended To Read in Part
SHIGI, HI FIX | HONOLULU, HI VORTAC | 4600 MAA—45000
§ 95.6415 Hawaii VOR Federal Airway V15 Is Amended To Read in Part
SHIGI, HI FIX | HONOLULU, HI VORTAC | 4600 MAA—45000
§ 95.6416 Hawaii VOR Federal Airway V16 Is Amended To Read in Part
SOUTH KAUAI, HI VORTAC | MORKE, HI FIX | 4600 MAA—45000
MORKE, HI FIX | NAPUA, HI FIX | 3000 MAA—45000
NAPUA, HI FIX | GRAIL, HI FIX
| W BND | 6000
| E BND | 9000 MAA—45000

From | To | MEA | MAA
§ 95.7001 Jet Routes
§ 95.7018 Jet Route J18 Is Amended To Delete
MOLINE, IL VOR/DME | JOLIET, IL VOR/DME | 18000 | 35000
§ 95.7060 Jet Route J60 Is Amended To Delete
JOLIET, IL VOR/DME | GOSHEN, IN VORTAC | 18000 | 45000
GOSHEN, IN VORTAC | DRYER, OH VOR/DME | 18000 | 45000
§ 95.7082 Jet Route J82 Is Amended To Delete
JOLIET, IL VOR/DME | GOSHEN, IN VORTAC | 18000 | 45000
§ 95.7115 Jet Route J115 Is Amended To Delete
FAIRBANKS, AK VORTAC | CHANDALAR LAKE, AK NDB | 18000 | 45000
CHANDALAR LAKE, AK NDB | DEADHORSE, AK VOR/DME | 18000 | 45000
§ 95.7155 Jet Route J155 Is Amended To Delete
CHANDALAR LAKE, AK NDB | NENANA, AK VORTAC | 18000 | 45000
§ 95.7180 Jet Route J180 Is Amended To Delete
HUMBLE, TX VORTAC | DAISETTA, TX VORTAC | 18000 | 45000
DAISETTA, TX VORTAC | CIDOR, LA FIX | 18000 | 45000
CIDOR, LA FIX | FOSIN, LA FIX | 19000 | 45000
FOSIN, LA FIX | SAWMILL, LA VOR/DME | 18000 | 45000
SAWMILL, LA VOR/DME | LITTLE ROCK, AR VORTAC | 18000 | 45000

Airway segment: From | Airway segment: To | Changeover points: Distance | Changeover points: From
§ 95.8003 VOR Federal Airway Changeover Point
V5 Is Amended To Delete Changeover Point
LOUISVILLE, KY VORTAC | CINCINNATI, KY VORTAC | 38 | LOUISVILLE.
CINCINNATI, KY VORTAC | APPLETON, OH VORTAC | 64 | CINCINNATI.
V12 Is Amended To Delete Changeover Point
JOHNSTOWN, PA VOR/DME | HARRISBURG, PA VORTAC | 62 | JOHNSTOWN.
V97 Is Amended To Delete Changeover Point
CINCINNATI, KY VORTAC | SHELBYVILLE, IN VOR/DME | 39 | CINCINNATI.
V103 Is Amended To Delete Changeover Point
GREENSBORO, NC VORTAC | ROANOKE, VA VOR/DME | 28 | GREENSBORO.
V375 Is Amended To Delete Changeover Point
ROANOKE, VA VOR/DME | GORDONSVILLE, VA VORTAC | 48 | ROANOKE.
V413 Is Amended To Modify Changeover Point
EAU CLAIRE, WI VORTAC | IRONWOOD, MI VOR/DME | 68 | EAU CLAIRE.
Alaska V447 Is Amended To Delete Changeover Point
FAIRBANKS, AK VORTAC | CHANDALAR LAKE, AK NDB | 103 | FAIRBANKS.
Alaska V510 Is Amended To Delete Changeover Point
EMMONAK, AK VOR/DME | ANVIK, AK NDB | 69 | EMMONAK.
ANVIK, AK NDB | MC GRATH, AK VORTAC | 87 | ANVIK.
§ 95.8005 Jet Routes Changeover Points
J18 Is Amended To Delete Changeover Point
MOLINE, IL VOR/DME | JOLIET, IL VOR/DME | 45 | MOLINE.
J60 Is Amended To Delete Changeover Point
GOSHEN, IN VORTAC | DRYER, OH VOR/DME | 90 | GOSHEN.
J115 Is Amended To Delete Changeover Point
CHANDALAR LAKE, AK NDB | DEADHORSE, AK VOR/DME | 15 | CHANDALAR LAKE.
J180 Is Amended To Delete Changeover Point
SAWMILL, LA VOR/DME | LITTLE ROCK, AR VORTAC | 90 | SAWMILL.

[FR Doc. 2025-09109 Filed 5-21-25; 8:45 am]

BILLING CODE 4910-13-P